FEDERAL COMMUNICATIONS COMMISSION

47 CFR Part 73

[DA 05-768; MB Docket No. 05-153, RM-11223; MB Docket No. 05-154, RM-11224]

Radio Broadcasting Services; Steamboat Springs, CO; and Refugio and Victoria, TX

AGENCY: Federal Communications Commission.

ACTION: Proposed rule.

SUMMARY: The Audio Division requests comment on two petitions proposing new allotments at Steamboat Springs, Colorado and Victoria, Texas. Dana J. Puopolo filed a petition proposing the allotment of Channel 289A at Steamboat Springs, Colorado, as its third FM commercial broadcast service. Channel 289A can be allotted to Steamboat Springs in compliance with the Commission's minimum distance separation requirements with a site restriction of 6.1 kilometers (3.8 miles) west to avoid a short-spacing to the application site of FM Station KJAC, Channel 288C1, Timnath, Colorado. The reference coordinates for Channel 289A at Steamboat Springs are 40-30-00 NL and 106-54-00 WL. The Audio Division requests comments on a petition filed by Katherine Pyeatt proposing the allotment of Channel 290A at Victoria, Texas, as the community's sixth FM commercial broadcast service. Channel 290A can be allotted to Victoria in compliance with the Commission's minimum distance separation requirements with a site restriction of 8.1 kilometers (5.0 miles) north to avoid a short-spacing to the license site of FM Station KVIC, Channel 236C3, Victoria, Texas. See BLH-2000501ACB. The reference coordinates for Channel 290A at Victoria are 28-52-40 NL and 96-59-54 WL. See Supplementary Information, supra.

DATES: Comments must be filed on or before May 12, 2005, and reply comments on or before May 27, 2005

ADDRESSES: Federal Communications Commission, 445 Twelfth Street, SW., Washington, DC 20554. In addition to filing comments with the FCC, interested parties should serve the petitioner, his counsel, or consultant, as follows: Dana J. Puopolo, 2134 Oak Street, Unit C, Santa Monica, CA 90405 and Katherine Pyeatt, 6655 Aintree Circle, Dallas, Texas 75214.

FOR FURTHER INFORMATION CONTACT: Rolanda F. Smith, Media Bureau, (202) 418-2180.

SUPPLEMENTARY INFORMATION: This is a synopsis of the Commission's Notice of Proposed Rule Making, MB Docket Nos. 05-153, 05-154, adopted March 23, 2005 and released March 25, 2005. The full text of this Commission decision is available for inspection and copying during regular business hours at the FCC's Reference Information Center, Portals II, 445 Twelfth Street, SW., Room CY-A257, Washington, DC 20554. The complete text of this decision may also be purchased from the Commission's duplicating contractor, Best Copy and Printing, Inc., 445 12th Street, SW., Room CY-B402, Washington, DC 20054, telephone 1-800-378-3160 or http://www.BCPIWEB.com. This document does not contain proposed information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4).

To accommodate the proposed Victoria allotment it is necessary to relocate the reference coordinates for vacant Channel 291A at Refugio, Texas. The proposed new site for Channel 291A at Refugio, 28-20-00 NL and 97-23-45 WL, is in compliance with the Commission's spacing requirements. This site is 12.3 kilometers (7.6 miles) west of the community, whereas the original site for Channel 291A at Refugio is 8.1 kilometers (5.0 miles) northwest of the community. The existing coordinates for the vacant Channel 291A at Refugio are 28-21-58 NL and 97-19-11 WL. Petitioner is required to provide the public interest benefits that could be derived from the site change of the vacant allotment at Refugio. We further seek any additional comments with regards to this proposal. Both allotments are located within 320 kilometers (199 miles) of the U.S.-Mexican border, Mexican concurrence has been requested for these allotments.

Provisions of the Regulatory Flexibility Act of 1980 do not apply to this proceeding. Members of the public should note that from the time a Notice of Proposed Rule Making is issued until the matter is no longer subject to Commission consideration or court review, all ex parte contacts are prohibited in Commission proceedings, such as this one, which involve channel allotments. See 47 CFR 1.1204(b) for rules governing permissible ex parte contact.

For information regarding proper filing procedures for comments, see 47 CFR 1.415 and 1.420.

List of Subjects in 47 CFR Part 73

Radio, Radio broadcasting.

For the reasons discussed in the preamble, the Federal Communications Commission proposes to amend 47 CFR Part 73 as follows:

PART 73—RADIO BROADCAST SERVICES

1. The authority citation for part 73 continues to read as follows:

Authority: 47 U.S.C. 154, 303, 334 and 336.

§ 73.202 [Amended]

2. Section 73.202(b), the Table of FM Allotments under Colorado, is amended by adding Channel 289A at Steamboat Springs.

3. Section 73.202(b), the Table of FM Allotments under Texas, is amended by adding Channel 290A at Victoria.

Federal Communications Commission.
John A. Karousos,
Assistant Chief, Audio Division, Media Bureau.

[FR Doc. 05-7347 Filed 4-12-05; 8:45 am]

BILLING CODE 6712-01-P